DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A) (I.C.) (Increased imports) and (a)(2)(B) (II.B) (No shift in production to a foreign country) have not been met.

TA-W-51,366; Georgia-Pacific Corp., Operating as James River Paper Co., Inc., Consumer Products Div., Old Town, ME

TA-W-51,736; Safeharbor Technology Corp., Satsop, WA

TA-W-51,551; Comp-U-Solve International, Inc., Elgin, IL

TA-W-51,691; Coastal Apparel, LLC, Tabor City, NC

The workers' firm does not produce an article as required for certification under Section 222 of the Trade Act of 1974.

TA-W-51,687 & A,B; Oshkosh B'Gosh, Inc., Oshkosh, WI, Oshkosh B'Gosh Retail, Inc., Oshkosh, WI and OBG Product Development and Sales, Inc., Oshkosh, WI

TA-W-51,625; Motorola, Inc., iDEN Radio Support Center, Elgin, IL

TA-W-51,744; Gateway Industrial Services, Inc., Jonesboro, AR

TA-W-51,680; Siemens Information and Communications Network, Inc., Boca Raton, FL

The investigation revealed that criterion (a)(2)(A) (I.A) (no employment declines) have not been met.

TA-W-51,241D, E,F; Bethlehem Steel Corp. Currently Known as International Steel Group, Piedmont, NC, Columbus, OH and Jackson, MS

TA-W-50,981; Southeastern Paper Products, a subsidiary of The Siman Group, Miami, FL

TA-W-51,724; Moonlight Harbor Fisheries, Kodiak, AK

TA-W-51,796; Fishing Vessel (F/V) Northern Flyer, Ketchikan, AK

TA-W-51,767; Fishing Vessel (F/V) (Imperial, Funter Bay, AK

TA-W-51,764; Fishing Vessel (F/V) Resolute, Ketchikan, AK

The investigation revealed that criteria (a) has not been met. The workers firm (or subdivision) is not a supplier or downstream producer to trade-affected companies.

TA-W-51,336; Manufacturers Pattern and Foundry Corp., Springfield, MA

Affirmative Determinations for Worker Adjustment Assistance

The following certifications have been issued; the date following the company name and location of each determination references the impact date for all workers of such determination.

The following certifications have been issued. The requirements of (a)(2)(A) (increased imports) of Section 222 have been met.

TA-W-51,152; Asco Valve Manufacturing, Fort Mill, SC: March 1, 2002.

TA-W-51,546; Farley's and Sathers Candy Co., New Orleans, LA: April 18, 2002.

TA-W-51,542; Ametek, Inc., Lamb Electric Div., Racine, WI: April 7, 2002.

TA-W-51,432; Marlock, Inc., Plant #1 and Plant #2, Including Leased Workers of Protemp/Office Team, Maynardville, TN: April 1, 2002.

TA-W-51,428; Knoll, Inc., East Greenville, PA: April 4, 2002

TA-W-51,161; Allura Corp., Lorane-Reading, PA: March 4, 2002.

TA-W-51,241 & A,B,C,G,H,I; Bethlehem Steel Corp., Currently Known as International Steel Group, Sparrows Point, MD, Lackawanna, NY, Coatesville, PA, Conshohocken, PA, Corp. Headquarters, Bethlehem, PA, Government Affairs Office, Washington, DC and Chicago Cold Rolling, a subsidiary of Bethlehem Steel Corp., currently known as International Steel Group, Chicago, IL: March 19, 2002.

TA-W-50,738; Alcoa, Inc., Massena, NY: January 17, 2002

TA-W-51,810; Borregaard Lignotech, Lignotech USA, Inc., Mt. Vernon, WA: May 16, 2002.

TA-W-51,804; Link-Belt Construction Equipment, Lexington, KY: May 8, 2002.

TA-W-51,743; Sychip, Inc., Murray Hill, NJ: March 13, 2002.

TA-W-51,686; Coats American, Inc., Industrial Div., Toccoa, GA: May 5, 2002.

TA-W-51,661; Preco Electronics, Inc., Boise, ID: April 30, 2002.

TA-W-51,567; BGF Industries, Inc., Heavyweight Electrical Fabrics Div., South Hill, VA: April 22, 2002.

TA-W-51,558; Lexington Fabrics, Inc., Finishing Plant, Florence, AL: May 30, 2003

TA-W-51,558A, B,C; Lexington Fabrics, Inc., Sewing Plant, Rogersville, AL, Sewing Plant, Florence, AL and Knitting, Cutting, Packing Plant, Lexington, AL: April 15, 2002.

TA-W-51,532 & A,B; Sony Technology Center, Display Device Div., San Diego, CA, Including Leased Workers of Adecco Staffing, Onsite Staffing and Remedy Staffing, San Diego, CA, Information Technologies Div., Including Leased Workers of Remedy Intelligent Staffing and Onsite Co., San Diego, CA: April 16, 2002.

TA-W-51,503; Fullarton Computer Industries, Ltd, Winterville, NC: April 14, 2002.

TA-W-51,490; Saint-Gobain Vetrotex America, Wichita Falls, TX: April 10, 2002.

The following certifications have been issued. The requirements of (a)(2)(B) (shift in production) of Section 222 have been met.

TA-W-51,602; Sara Lee Intimate Apparel, Liberty Fabrics Div., Liberty Fabrics, Inc., Woolwine, VA: March 28, 2002.

TA-W-51,500; EMC Technologies, Inc., a Part of Smiths Interconnect, a div. of The Smiths Industrial Group, a div. of Smiths Group PLC, Cherry Hill, NJ: April 15, 2002.

TA-W-51,384; Honeywell Sensor Systems, Thermal Business Div., a subsidiary of Honeywell, Inc., Pawtucket, RI: March 31, 2002.

TA-W-51,264; Multilayer Technology, Inc., d/b/a Multek, a subsidiary of Flextronics International, Inc., Irvine, CA: March 13, 2002.

TA-W-51,130; Tyler Refrigeration, Waxahachie, TX: March 7, 2002.

TA-W-51,081; Plexus Corp., Plexus Electronic Assembly Group, Bothell, WA: February 24, 2002.

TA-W-50,936; International Mill Service, Inc., employed at Oregon Steel Mills, Inc./Portland Steel Works, Portland, OR: February 19, 2002.

TA-W-50,931; Mead Westvaco Corp., Consumer and Office Div., St. Joseph, MO: February 19, 2002.

TA-W-51,646; Wire Harness Industries, Inc., d/b/a Viasystems Harness Div., a subsidiary of Viasystems Group, Inc., Including Leased Workers of Aloche Staffing, Bucyrus, OH: April 30, 2002.

TA-W-51,156; Pacific Precision Metals, Inc., d/b/a La Verne Metal Products, La Verne, CA: March 11, 2002.

TA-W-51,717; Sandvik Materials Technology, Tubular Products Div., Clarks Summit, PA: May 7, 2002.

TA-W-51,673; Suntron Corp., Southwest Operations, Including Leased Workers of Manpower International, Phoenix, AZ: May 1, 2002.

TA-W-51,665; Cord Master Engineering Co., Inc., North Adams, MA: May 1, 2002.

TA-W-51,613; Autoliv ASP, Inc., Cushion Manufacturing Div., Including Leased workers of Adecco Staffing Agency, Ogden, UT: April 28, 2002.

TA-W-51,605; Daws Manufacturing Co., Inc., Parsons, TN: April 23, 2002.

TA-W-51,518; Skyworks Solutions, Inc., Former Alpha Industries, Inc., Woburn, MA: April 14, 2002.

The following certification has been issued. The requirement of upstream supplier to a trade certified primary firm has been met.

TA-W-50,957; Compass Aerospace Northwest, Inc., Shelton, WA: February 18, 2002.

TA-W-51,683; Quadco Industrial Services, Tigard, OR: April 29, 2002.

TA-W-50,364; Reactive Metals and Alloys Corp., West Pittsburg, PA: December 12, 2001.

TA-W-51,740; Fishing Vessel (F/V) Lucy Lewis, Kepnuk, AK: April 28, 2002

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the month of May 2003.

In order for an affirmative determination to be made and a certification of eligibility to apply for NAFTA-TAA the following group eligibility requirements of section 250 of the Trade Act must be met:

(1) That a significant number or proportion of the workers in the workers' firm, or an appropriate subdivision thereof (including workers in any agricultural firm or appropriate subdivision thereof), have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

The investigation revealed that the criteria for eligibility have not been met for the reasons specified.

The investigation revealed that the workers of the subject firm did not produce an article within the meaning of section 250(a) of the Trade Act, as amended.

None.

Affirmative Determinations NAFTA-TAA

None.

I hereby certify that the aforementioned determinations were issued during the month of May 2003. Copies of these determinations are available for inspection in Room C-5311, U.S. Department of Labor, 200 Constitution Avenue, NW., Washington, DC 20210 during normal business hours or will be mailed to persons who write to the above address.

Dated: May 23, 2003.
Timothy Sullivan,
Director, Division of Trade Adjustment Assistance.

[FR Doc. 03-13812 Filed 6-2-03; 8:45 am]

BILLING CODE 4510-30-P